DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held June 10-11, 2003 from 9 a.m. to 5 p.m.

ADDRESSES: The meeting will be held at RTCA, Inc., 1828 L Street, NW., Suite 805, Washington, DC 20036.

FOR FURTHER INFORMATION CONTACT: RTCA Secretariat, 1828 L Street, SW., Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 172 meeting. The agenda will include:

• June 10:

• Opening Plenary Session (Welcome and Introductory Remarks, Review of Agenda, Review Summary of Previous Meeting)

• Convene Working Group-3 (WG), prepare for FRAC Change 1 to DO-271A, VHF Digital Link Mode 3 Minimum Operational Performance Standard (MOPS).

• June 11:

• Convene WG-2 to entertain white papers and actions regarding the development of Version B of the DO-224A, Signal-in-Space Minimum Aviation System Performance Standards (MASPS) for advance VHF Digital Data Communications Including Compatibility with Digital Voice.

• Reconvene WG-3 (if necessary)

• Reconvene Plenary

• Review relevant activities

• International Civil Aviation Organization Aeronautical Mobile Communications Panel work

• NEXCOM activities

• EUROCAE WG-47 status and issues

• Others as appropriate

• Closing Plenary Session (Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement at any time.

Issued in Washington, DC, on May 5, 2003.
Norman T. Fujisaki,
Deputy Director, System Architecture and Investment Analysis.

[FR Doc. 03-12381 Filed 5-16-03; 8:45 am]

BILLING CODE 4910-13-M